DEPARTMENT OF COMMERCE

National Oceanic and Atmospheric Administration

[RTID 0648-XV131]

New England Fishery Management Council; Public Meeting

AGENCY: National Marine Fisheries Service (NMFS), National Oceanic and Atmospheric Administration (NOAA), Commerce.

ACTION: Notice of a public meeting.

SUMMARY: The New England Fishery Management Council (Council, NEFMC) will hold a three-day meeting to consider actions affecting New England fisheries in the exclusive economic zone (EEZ).

DATES: The meeting will be held on Tuesday, Wednesday, and Thursday, December 3, 4, and 5, 2019, beginning at 9 a.m. on December 3 and 8:30 a.m. on December 4 and 5.

ADDRESSES: The meeting will be held at the Hotel Viking, 1 Bellevue Avenue, Newport, RI 02840; telephone (401) 847-3300; online at www.hotelviking.com.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, December 3, 2019

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, staff from the Atlantic States Marine Fisheries Commission (ASMFC), and representatives from NOAA General Counsel, NOAA's Office of Law Enforcement, and the U.S. Coast Guard. The Council then will receive a report on the 2019 annual meeting of the Northwest Atlantic Fisheries Organization (NAFO), followed by a report on the Northeast Trawl Advisory Panel's most recent meeting. Next, the Council will receive a NOAA Enforcement overview of the Carlos Rafael case, followed by a Coast Guard presentation on misreporting issues and their implications. Then, members of the public will have the opportunity to speak during an open comment period on issues that relate to Council business but are not included on the published agenda for this meeting. The Council asks the public to limit remarks to 3-5 minutes.

Following the lunch break, the Council will review Draft National Standard 1 Technical Guidance for Carry-over and Phase-in Provisions within Acceptable Biological Catch (ABC) control rules and approve Council comments on the draft. The Skate Committee Report will be up next. The Council will receive a progress report on Amendment 5 to the Northeast Skate Complex Fishery Management Plan (FMP), which proposes to establish a limited access program for the skate wing and/or skate bait fisheries. Then, the Council will receive an overview of the Spiny Dogfish 2019 Fishery Performance Report and the Spiny Dogfish Monitoring Committee's recommendations for the 2020 fishing year. Next, the Atlantic herring report will cover two issues. First, the Council will receive a presentation on the final discussion document pertaining to Atlantic herring spawning on Georges Bank. Second, the Council will receive the final debrief report on the Management Strategy Evaluation (MSE) process that was used to develop ABC control rule alternatives for Amendment 8 to the Atlantic Herring FMP. The Council then will hear from its Ecosystem-Based Fishery Management (EBFM) MSE Steering Committee, which will provide recommendations on developing a non-technical document and structure for public information workshops, focusing on the approach used for the Council's example Fishery Ecosystem Plan for Georges Bank. Finally, the Council will receive an overview of NMFS's Modernizing Recreational Fisheries Management Act of 2018 Report to Congress and approve Council comment. Following these actions, the Council will adjourn for the day.

Wednesday, December 4, 2019

The Council will begin the day with a NEFSC presentation on the peer-reviewed results of the 2019 operational assessments for 14 Northeast multispecies (groundfish) stocks. Next, the Scientific and Statistical Committee (SSC) will provide the Council with overfishing limit (OFL) and ABC recommendations for those 14 groundfish stocks for fishing years 2020-22, as well as OFL and ABC recommendations for Atlantic sea scallops for fishing year 2020 with default specifications for 2021. The Groundfish Committee report will be next with three items. First, the Council will take final action on Framework Adjustment 59 to the Northeast Multispecies FMP. The framework includes: (1) 2020 total allowable catches for U.S./Canada stocks of Eastern Georges Bank (GB) cod, Eastern GB haddock, and GB yellowtail flounder; (2) 2020-22 specifications for 15 stocks, addressing commercial/recreational allocation if raised by data from the Marine Recreational Information Program (MRIP); and (3) removal of the allocation to the Closed Area I Haddock Special Access Program. This discussion will be followed by a progress report on Groundfish Monitoring Amendment 23, and then the Council will receive a summary of the input gathered during a series of public listening sessions that were conducted to gauge whether the Council should pursue developing a limited access program for the groundfish party/charter fishery.

Following the lunch break, the Council will continue its groundfish deliberations until all business is concluded. Then, the Council will receive a report on GARFO's October 2019 New England Recreational Fishing Workshops. After that, the Council will adjourn for the day.

Thursday, December 5, 2019

The third day of the meeting will begin with a discussion of Council priorities. The Council will take final action on 2020 priorities covering tasks and actions for all committees and Council responsibilities. Next, the Council will take up the Scallop Committee Report, which will cover two items. First, the Council will take final action on Framework Adjustment 32 to the Atlantic Sea Scallop FMP. This framework includes fishing year 2020 specifications, 2021 default specifications, and measures to mitigate impacts on Georges Bank yellowtail flounder. The Council also is working on Amendment 21 to the FMP, which is being developed to address: (1) Northern Gulf of Maine (NGOM) Management Area issues, (2) the Limited Access General Category (LAGC) possession limit, and (3) the one-way transfer of individual fishing quota (IFQ) from Limited Access vessels with LAGC IFQ to vessels that only hold LAGC IFQ permits. As part of this action, the Council will discuss whether or not to ask NMFS to publish a control date to restrict movement between LAGC permit categories. The Council may take action on this item.

Following the lunch break, the Council will receive a habitat report with updates on: (1) Ongoing offshore energy activities in the Northeast Region; and (2) habitat-related work. Next, the Council will receive a presentation from Cornell Cooperative Extension on its technology transfer program for small-mesh fishermen to utilize large-mesh belly panels to reduce bycatch of Georges Bank yellowtail flounder. This will be followed by the Council's small-mesh multispecies (whiting) report, which will focus on action being taken to rebuild southern red hake. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: November 12, 2019.
Tracey L. Thompson,
Acting Deputy Director, Office of Sustainable Fisheries, National Marine Fisheries Service.

[FR Doc. 2019-24788 Filed 11-14-19; 8:45 am]

BILLING CODE 3510-22-P